NATIONAL AERONAUTICS AND SPACE ADMINISTRATION

[Notice 04-017]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: January 29, 2004.

FOR FURTHER INFORMATION CONTACT: Rob M. Padilla, Patent Counsel, Ames Research Center, Code 202A-4, Moffett Field, CA 94035-1000; telephone (650) 604-5104; fax (650) 604-2767.

NASA Case No. ARC-14710-1: Enhanced Elliptic Grid Generation;

NASA Case No. ARC 14756-1: Accurate Display, Simulation and Interaction in a Desktop Virtual Environment;

NASA Case No. ARC 15023-1: Electronic Hardware for Improved Haptic Interface Performance;

NASA Case No. ARC 15073-1: Multi-User Investigation Organizer.

Dated: January 21, 2004.
Robert M. Stephens,
Deputy General Counsel.

[FR Doc. 04-1852 Filed 1-28-04; 8:45 am]

BILLING CODE 7510-01-P